DEPARTMENT OF ENERGY

Federal Energy Regulatory Commission

[Docket No. CP23-29-000]

Saguaro Connector Pipeline, L.L.C.; Notice of Schedule for the Preparation of an Environmental Assessment for the Border Facilities Project

On December 20, 2022, Saguaro Connector Pipeline, L.L.C. (Saguaro) filed an application in Docket No. CP23-29-000 requesting an Authorization pursuant to Section 3 of the Natural Gas Act to construct and operate certain natural gas pipeline facilities. The proposed project is known as the Border Facilities Project (Project), and would serve as an interconnection to export natural gas produced in Texas across the United States-Mexico International Boundary in Hudspeth County, Texas. The design capacity of the border crossing is 2.834 billion standard cubic feet per day.

On January 5, 2023, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA August 25, 2023

90-Day Federal Authorization Decision Deadline ² November 23, 2023

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Saguaro proposes to site, construct, connect, operate, and maintain a 48-inch-diameter natural gas pipeline from the United States (U.S.) to the Mexico International Border in Hudspeth County, Texas. The pipeline would extend from State of Texas land to the U.S.-Mexico international border in the middle of the Rio Grande River. The Project would consist of the installation of approximately 1,000 feet of 48-inch-diameter pipeline, establishment of a 50-foot-width permanent right-of-way, and use of approximately 14.2 acres as temporary workspaces and 6.9 miles of temporary access road.

Background

On February 3, 2023, the Commission issued a Notice of Scoping Period Requesting Comments on Environmental Issues for the Proposed Borders Facilities Project (Notice of Scoping). The Notice of Scoping was sent to affected landowners; federal, state, and local government agencies; elected officials; environmental and public interest groups; Native American tribes; other interested parties; and local libraries and newspapers. In response to the Notice of Scoping, the Commission received several comments. The primary issues raised by the commenters are environmental justice, cultural resources, and pipeline safety. The U.S. Environmental Protection Agency (EPA) provided recommendations to FERC regarding air quality, water quality, hazardous waste, and environmental justice. EPA's recommendations for these resources included comments regarding cumulative impacts for the non-jurisdictional pipeline connected to the Project and consultation with the U.S. Army Corps of Engineers regarding Clean Water Act Section 404 waters. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP23-29), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: March 15, 2023.
Kimberly D. Bose,
Secretary.

[FR Doc. 2023-05789 Filed 3-21-23; 8:45 am]

BILLING CODE 6717-01-P